DEPARTMENT OF AGRICULTURE

Forest Service

Land Between the Lakes Advisory Board

AGENCY: Forest Service, Department of Agriculture (USDA).

ACTION: Solicitation for members.

SUMMARY: The United States Department of Agriculture (USDA) is seeking nominations for the Land Between the Lakes Advisory Board pursuant to the authority of the Land Between the Lakes Protection Act of 1998 and the Federal Advisory Committee Act (FACA), as amended. Additional information on the Land Between the Lakes Advisory Board can be found by visiting the committee website at: https://landbetweenthelakes.us/about/working-together/advisory-board/.

DATES: Nominations may be mailed to the address listed in ADDRESSES and must be postmarked by September 22, 2023. Nominations may also be sent via email to the person listed in FOR FURTHER INFORMATION CONTACT. Nominations must contain a completed application packet that includes the nominee's name, resume, and completed Form AD-755 (Advisory Committee or Research and Promotion Background Information).

ADDRESSES: Please submit nominations and resumes for appointments by the Secretary or legislative designees to the Land Between the Lakes National Recreation Area, Attention: Christine Bombard, 100 Van Morgan Drive, Golden Pond, Kentucky 42211.

FOR FURTHER INFORMATION CONTACT: Christine Bombard, Advisory Board Liaison, USDA Forest Service, Land Between the Lakes National Recreation Area, 100 Van Morgan Drive, Golden Pond, Kentucky 42211 or by email christine.bombard@usda.gov.

Individuals who use telecommunication devices for the deaf and hard of hearing (TDD) may call the Federal Relay Service (FRS) at 1-800-877-8339, 24 hours a day, every day of the year, including holidays.

SUPPLEMENTARY INFORMATION:

Background

In accordance with the provisions of the FACA and the Acts pursuant to the Land Between the Lakes, the U.S. Forest Service is seeking nominations for the purpose of providing advice to the Secretary of Agriculture on the following:

• Means of promoting public participation for the Land and Resource Management Plan;

• Environmental education;

• Develop an annual work plan for recreation and environmental education areas in the Recreation Area, including the heritage program, with the nonappropriated amounts in the Land Between the Lakes Management Fund;

• Develop an annual forest management and harvest plan for the Recreation Area; and

• Maintain the balance and status of the Fund.

Membership Balance

The Advisory Board will be comprised of 13 members approved by the Secretary of Agriculture where each will serve a 5-year term. Memberships shall include representation from the following interest areas:

(1) Four persons appointed by the Secretary of Agriculture, including:

(a) Two residents of the State of Kentucky

(b) Two residents of the State of Tennessee

(2) Two persons appointed by the Commissioner (or designee) of the Kentucky Department of Fish and Wildlife Resources;

(3) One person appointed by the Commissioner (or designee) of the Tennessee Wildlife Resources Agency; and

(4) 2 individuals shall be appointed by appropriate officials of each of the 3 counties containing the Recreation Area.

Nomination and Application Information

The appointment of members to the Land Between the Lakes Advisory Board will be made by the Secretary of Agriculture, or legislative designees. The public is invited to submit nominations for membership either as a self-nomination or a nomination of any qualified and interested person. Any individual or organization may nominate one or more qualified persons to represent the interest areas listed above. To be considered for membership, nominees must:

1. Be a resident of the State of Kentucky or

2. Be a resident of the State of Tennessee and

3. May not have served on the Land Between the Lakes Advisory Board within the past 5 years.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken in account the needs of the diverse groups served by USDA, membership shall include to the extent possible, individuals with demonstrated ability to represent minorities, women, and persons with disabilities. USDA is an equal opportunity provider, employer, and lender.

Dated: July 31, 2023.
Cikena Reid,
USDA Committee Management Officer.

[FR Doc. 2023-16634 Filed 8-3-23; 8:45 am]

BILLING CODE 3411-15-P